DEPARTMENT OF COMMERCE

National Oceanic and Atmospheric Administration

[I.D. 033000A]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Plan Development Team (HMSPDT) will hold a video conference work session.

DATES: The work session will be held on Wednesday, April 26, 2000, from 8:30 a.m. to 4:30 p.m.

ADDRESSES: The video conference will be accessible to the public via viewing stations at the NMFS offices in La Jolla, CA; Long Beach, CA; Portland, OR; and Seattle WA. See SUPPLEMENTARY INFORMATION for the addresses.

Council address: Pacific Fishery Management Council, 2130 SW Fifth Avenue, Suite 224, Portland, OR 97201.

FOR FURTHER INFORMATION CONTACT: Dan Waldeck, Pacific Fishery Management Council; 503-326-6352.

SUPPLEMENTARY INFORMATION: The addresses of the locations are:

NMFS, Southwest Fisheries Science Center, Large Conference Room, 8604 La Jolla Shores Drive, La Jolla, CA 92038;

NMFS Southwest Region, Conference Room, 501 W. Ocean Blvd., Long Beach, CA 90802;

NMFS Pacific Conference Room, 525 NE. Oregon, Portland, OR 97232;

NMFS Northwest Region, Regional Directors Conference Room, 7600 Sand Point Way NE., Bldg. 1, Seattle, WA 98115.

The primary purposes of the work session are to: (1) discuss organization and outline of the Fisheries Management Plan (FMP) for Highly Migratory Species (HMS); and (2) for HMSPDT members to report progress on draft sections of the FMP.

Management measures that may be adopted in the FMP for HMS Fisheries off the West Coast include permit and reporting requirements for commercial and recreational harvest of HMS resources, time and/or area closures to minimize gear conflicts or bycatch, adoption or confirmation of state regulations for HMS fisheries, and allocations of some species to non-commercial use. The FMP is likely to include a framework management process to add future new measures, including the potential for collaborative management efforts with other regional fishery management councils with interests in HMS resources. It would also include essential fish habitat and habitat areas of particular concern, including fishing and non-fishing threats, as well as other components of FMPs required under the Magnuson-Stevens Fishery Conservation and Management Act (Magnuson-Stevens Act).

The proposed FMP, and its associated regulatory analyses, would be the Council's fourth FMP for the exclusive economic zone off the West Coast. Development of the FMP is timely, considering the new mandates under the Magnuson-Stevens Act, efforts by the United Nations to promote conservation and management of HMS resources through domestic and international programs, and the increased scope of activity of the Inter-American Tropical Tuna Commission in HMS fisheries in the eastern Pacific Ocean.

Although non-emergency issues not contained in the HSMPDT meeting agenda may come before the HMSPDT for discussion, those issues may not be the subject of formal HMSPDT action during these meetings. HMSPDT action will be restricted to those issues specifically listed in this document and any issues arising after publication of this document that require emergency action under section 305(c) of the Magnuson-Stevens Act, provided the public has been notified of the HMSPDT's intent to take final action to address the emergency.

Special Accommodations

The meeting is physically accessible to people with disabilities. Requests for sign language interpretation or other auxiliary aids should be directed to Mr. John Rhoton at 503-326-6352 at least 5 days prior to the meeting date.

Dated: April 5, 2000.
Richard W. Surdi,
Acting Director, Office of Sustainable Fisheries, National Marine Fisheries Service.

[FR Doc. 00-8942 Filed 4-10-00; 8:45 am]

BILLING CODE 3510-22-F